DEPARTMENT OF TRANSPORTATION

Federal Aviation Administration

[Summary Notice No. PE-2010-02]

Petition for Exemption; Summary of Petitions Received

AGENCY: Federal Aviation Administration (FAA), DOT.

ACTION: Notice of petition for exemption received.

SUMMARY: This notice contains a summary of two petitions seeking relief from specified requirements of 14 CFR. The purpose of this notice is to improve the public's awareness of, and participation in, this aspect of FAA's regulatory activities. Neither publication of this notice nor the inclusion or omission of information in the summary is intended to affect the legal status of the petitions or their final disposition.

DATES: Comments on these petitions must identify the petition docket number involved and must be received on or before March 24, 2010.

ADDRESSES: You may send comments identified by Docket Number FAA-2009-1217 and FAA-2009-0966 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Tyneka L. Thomas, 202-267-7626, or Ralen Gao, 202-267-3168, Office of Rulemaking, Federal Aviation Administration, 800 Independence Avenue, SW., Washington, DC 20591.

This notice is published pursuant to 14 CFR 11.85.

Issued in Washington, DC on February 22, 2010.
Pamela Hamilton-Powell,
Director, Office of Rulemaking.

Petitions for Exemption

To assist the FAA in analysis of the safety impact of these petitions, commenters should provide information and data that relate to the equipment, procedural practices, alternatives, and aeromedical factors involved in granting such an exemption. In particular, the FAA is interested in receiving data and information relating to the following issues:

• The risk of oxygen deficiency when operating at flight altitudes above flight level 250.

• Aircraft vessel reliability.

• Human physiology.

• Life support equipment capabilities vs. aircraft operating altitude performance capability.

• Crew emergency training and passenger protection.

• Potential failure modes that would require the use of emergency breathing equipment.

• Human response times in the event of decompression.

The FAA is also interested in receiving input on what alternative actions could be taken that would provide an equivalent level of safety.

Docket No.: FAA-2009-1217.

Petitioner: FedEx Express.

Section of 14 CFR Affected: § 121.333(c)(3).

Description of Relief Sought

FedEx Express seeks an exemption from 14 CFR 121.333(c)(3) which requires that if for any reason at any time it is necessary for one pilot to leave his station at the controls of the airplane when operating at flight altitudes above flight level 250, the remaining pilot at the controls shall put on and use his oxygen mask until the other pilot has returned to his duty station. An exemption would allow one pilot to leave his or her station at the controls of the airplane when operating at flight altitudes above flight level 250, while the remaining pilot at the controls shall remove his or her oxygen mask from the stowage unit and have it in his or her lap until the other pilot has returned to his or her duty station. The petitioner believes that granting this exemption will mitigate the potential exposure for flight crewmembers to contract H1N1.

Docket No.: FAA-2009-0966.

Petitioner: FedEx Express and Air Line Pilots Association (ALPA).

Section of 14 CFR Affected: § 121.333(c)(3).

Description of Relief Sought

FedEx Express and ALPA seeks temporary suspension of Section 121.333(c)(3) which would allow one pilot to leave his (her) station at the controls of the airplane when operating at flight altitudes above flight level 250.

[FR Doc. 2010-4497 Filed 3-3-10; 8:45 am]

BILLING CODE 4910-13-P